DEPARTMENT OF ENERGY

Federal Energy Regulatory Commission

Combined Notice of Filings #1

Take notice that the Commission received the following electric corporate filings:

Docket Numbers: EC13-114-002.

Applicants: Axium Coachella, Coachella Partners.

Description: Notice of Change in Facts of Axium Coachella and Coachella Partners.

Filed Date: 9/23/19.

Accession Number: 20190923-5095.

Comments Due: 5 p.m. ET 10/15/19.

Docket Numbers: EC19-140-000.

Applicants: Tesoro Refining & Marketing Company LLC, Watson Cogeneration Company.

Description: Application for Authorization Under Section 203 of the Federal Power Act, et al. of Tesoro Refining & Marketing Company LLC, et al.

Filed Date: 9/20/19.

Accession Number: 20190920-5164.

Comments Due: 5 p.m. ET 10/11/19.

Take notice that the Commission received the following exempt wholesale generator filings:

Docket Numbers: ER10-2249-008.

Applicants: Portland General Electric Company.

Description: Supplement to June 28, 2019 Updated Market Power Analysis in the Northwest Region for Portland General Electric Company.

Filed Date: 9/19/19.

Accession Number: 20190919-5140.

Comments Due: 5 p.m. ET 10/10/19.

Docket Numbers: ER19-2847-000.

Applicants: Oxbow Creek Energy LLC.

Description: Baseline eTariff Filing: Owbow Energy Reactive Power Tariff Filing to be effective 12/1/2019.

Filed Date: 9/23/19.

Accession Number: 20190923-5033.

Comments Due: 5 p.m. ET 10/15/19.

Docket Numbers: ER19-2848-000.

Applicants: Midcontinent Independent System Operator, Inc.

Description: § 205(d) Rate Filing: 2019-09-23_SA 3354 NSP-NSP GIA (J587) to be effective 9/9/2019.

Filed Date: 9/23/19.

Accession Number: 20190923-5073.

Comments Due: 5 p.m. ET 10/15/19.

Docket Numbers: ER19-2849-000.

Applicants: Arizona Public Service Company.

Description: § 205(d) Rate Filing: Rate Schedule No. 294—Bagdad to be effective 11/23/2019.

Filed Date: 9/23/19.

Accession Number: 20190923-5075.

Comments Due: 5 p.m. ET 10/15/19.

Docket Numbers: ER19-2850-000.

Applicants: Arizona Public Service Company.

Description: § 205(d) Rate Filing: Service Agreement No. 374—Bagdad to be effective 11/23/2019.

Filed Date: 9/23/19.

Accession Number: 20190923-5076.

Comments Due: 5 p.m. ET 10/15/19.

Docket Numbers: ER19-2851-000.

Applicants: PJM Interconnection, L.L.C.

Description: § 205(d) Rate Filing: Amendment to SA No. 2637, Queue S103 & SA No. 3039, W2-075 (consent) to be effective 8/20/2010.

Filed Date: 9/23/19.

Accession Number: 20190923-5081.

Comments Due: 5 p.m. ET 10/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 23, 2019.
Nathaniel J. Davis, Sr.,
Deputy Secretary.

[FR Doc. 2019-21045 Filed 9-27-19; 8:45 am]

BILLING CODE 6717-01-P